ENVIRONMENTAL PROTECTION AGENCY

[EPA-HQ-OECA-2017-0640; FRL-10457-01-OMS]

Information Collection Request Submitted to OMB for Review and Approval; Comment Request; Producers, Registrants, and Applicants of Pesticides and Pesticide Devices Under Section 8 of the Federal Insecticide, Fungicide, and Rodenticide Act (Renewal)

AGENCY: Environmental Protection Agency (EPA).

ACTION: Notice.

SUMMARY: The Environmental Protection Agency (EPA) has submitted an information collection request (ICR), Producers, of Pesticides and Pesticide Devices under Section 8 of The Federal Insecticide, Fungicide, and Rodenticide Act (EPA ICR Number 0143.14, OMB Control Number 2070-0028) to the Office of Management and Budget (OMB) for review and approval in accordance with the Paperwork Reduction Act. This is a proposed extension of the ICR, which is currently approved through November 30, 2022. Public comments were previously requested via the Federal Register on September 7, 2022, during a 60-day comment period. This notice allows for an additional 30 days for public comments. A fuller description of the ICR is given below, including its estimated burden and cost to the public. An agency may not conduct, or sponsor and a person is not required to respond to a collection of information unless it displays a currently valid OMB control number.

DATES: Additional comments may be submitted on or before December 28, 2022.

ADDRESSES: Submit your comments to EPA, referencing Docket ID No. EPA-HQ-OECA-2017-0640, online using www.regulations.gov (our preferred method), by email to docket.oeca@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Michelle Yaras, Office of Compliance, Monitoring, Assistance, and Media Programs Division, Pesticides, Waste & Toxics Branch (2227A), Environmental Protection Agency, 1200 Pennsylvania Ave. NW, Washington, DC 20460; telephone number: 202-564-4153; email address: yaras.michelle@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Producers of pesticides and pesticide devices must maintain certain records with respect to their operations and make such records available for inspection and copying as specified in section 8 of the Federal Insecticide, Fungicide, and Rodenticide Act (FIFRA) and in regulations at 40 CFR part 169.

This information collection is mandatory under 40 CFR part 169. It is used by the Agency to determine compliance with FIFRA. The information is used by EPA Regional pesticide enforcement and compliance staffs, the Office of Enforcement and Compliance Assurance (OECA), and the Office of Pesticide Programs (OPP) within the Office of Chemical Safety and Pollution Prevention (OCSPP), as well as the U.S. Department of Agriculture (USDA), the Food and Drug Administration (FDA), and other Federal agencies, States under Cooperative Enforcement Agreements, and the public. An agency may not conduct or sponsor, and a person is not required to respond to, a collection of information unless it displays a currently valid OMB control number.

Form Numbers: None.

Respondents/affected entities: Producers of pesticides and pesticide devices for sale or distribution in or exported to the United States.

Respondent's obligation to respond: Mandatory (40 CFR part 169).

Estimated number of respondents: 19,027 (total).

Frequency of response: Annual.

Total estimated burden: 15,078 hours (per year). Burden is defined at 5 CFR 1320.03(b).

Total estimated cost: $909,655 (per year), includes $0 annualized capital or operation & maintenance costs.

Changes in the Estimates: There is a decrease of 42,054 hours in the total estimated respondent burden compared with the ICR currently approved by OMB. This decrease of 42,054 hours is a result of our reassessment of the assumptions used to estimate the burden of this ICR. Adjustments resulted from corrections of clerical or computational errors in the previous ICR renewal supporting statement. Further adjustments to the burden estimates resulted from (1) adjustments in the salary computation for industry to reflect current wage rates, (2) adjustments for inflation, and (3) adjustment to the number of respondents.

Courtney Kerwin,
Director, Regulatory Support Division.

[FR Doc. 2022-25799 Filed 11-25-22; 8:45 am]

BILLING CODE 6560-50-P